DEPARTMENT OF COMMERCE

National Oceanic and Atmospheric Administration

RIN 0648-XG942

New England Fishery Management Council; Public Meeting

AGENCY: National Marine Fisheries Service (NMFS), National Oceanic and Atmospheric Administration (NOAA), Commerce.

ACTION: Notice; public meeting.

SUMMARY: The New England Fishery Management Council (Council) is convening a two-day meeting of a sub-panel of its Scientific & Statistical Committee to consider actions affecting New England fisheries in the exclusive economic zone (EEZ). The sub-panel will review the scientific validity of information and analyses of groundfish monitoring issues. The sub-panel's report will be considered by the Council in evaluating management alternatives for improving the monitoring of catch under the Northeast Multispecies Fishery Management Plan, if appropriate.

DATES: This meeting will be held on Wednesday, April 24, 2019, beginning at 10 a.m. and Thursday, April 25, 2019 at 8:30 a.m.

ADDRESSES: The meeting will be held at the Hotel Providence, 139 Mathewson Street, Providence, RI; phone: (401) 861-8000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

Wednesday, April 24, 2019

The sub-panel will receive documents and presentations containing information and analyses of groundfish monitoring issues and evaluate the scientific validity of the information and any recommendation provided. Other business will be discussed as needed.

Thursday, April 25, 2019

The sub-panel will meet in closed session to develop a written report for the Council.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: April 3, 2019.
Rey Israel Marquez,
Acting Deputy Director, Office of Sustainable Fisheries, National Marine Fisheries Service.

[FR Doc. 2019-06889 Filed 4-5-19; 8:45 am]

BILLING CODE 3510-22-P